DEPARTMENT OF ENERGY

Federal Energy Regulatory Commission

[Docket No. EL03-12-000]

Kinder Morgan Michigan, LLC, Complainant, v. Michigan Electric Transmission Company, LLC, Respondent; Notice of Complaint

October 18, 2002.

Take notice that on October 15, 2002, Kinder Morgan Michigan, L.L.C. (KMM) filed with the Federal Energy Regulatory Commission (Commission) a complaint under section 206 of the Federal Power Act, 16 U.S.C. 824e (1994), and section 206 of the Commission's Rules of Practice and Procedure, 18 CFR 206, against Michigan Electric Transmission Company, LLC (METC) requesting that the Commission find that the terms and conditions of KMM's Generator Interconnection and Operating Agreement with METC violate Commission policy and precedent, and are unjust and unreasonable.

Any person desiring to be heard or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before October 25, 2002 . This filing is available for review at the Commission in the Public Reference Room or may be viewed on the Commission's Web site at http://www.ferc.gov using the “FERRIS” link. Enter the docket number excluding the last three digits in the docket number field to access the document. For Assistance, call (202)502-8222 or for TTY, (202) 502-8659. The answer to the complaint, comments, protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-28575 Filed 11-7-02; 8:45 am]

BILLING CODE 6717-01-P